DEPARTMENT OF COMMERCE

National Oceanic and Atmospheric Administration

[I.D. 052400G]

Marine Mammals

AGENCY: National Marine Fisheries Service (NMFS), National Oceanic and Atmospheric Administration (NOAA), Commerce.

ACTION: Issuance of photography permit No. 980-1570.

SUMMARY: Notice is hereby given that Lonsdale Productions, 113 Fakenham Road, Great Ryburgh, Norfolk NR21 7AQ, United Kingdom, has been issued a permit to take by Level B harassment two species, gray whale (Eschrichtius robustus) and killer whale (Orcinus orca) of non-threatened, non-endangered marine mammals for purposes of commercial photography.

ADDRESSES: The permit and related documents are available for review upon written request or by appointment in the following offices:

Permits Division, Office of Protected Resources, NMFS, 1315 East-West Highway, Room 13130, Silver Spring, MD 20910 (301/713-2289); and

Regional Administrator, Alaska Region, 709 W. 9th Street, Federal Building Room 461, P.O. Box 21668, Juneau, AK 99802 (907/586-7235).

SUPPLEMENTARY INFORMATION: On April 25, 2000, notice was published in the Federal Register (65 FR 24185) that the above-named applicant had submitted a request for a permit to take two species of marine mammals by Level B harassment during the course of commercial photographic activities in Alaska waters. The requested permit has been issued, under the authority of section 104(c)(6) of the Marine Mammal Protection Act of 1972, as amended (16 U.S.C. 1361 et seq.).

Dated: June 21, 2000.
Ann D. Terbush,
Chief, Permits and Documentation Division, Office of Protected Resources, National Marine Fisheries Service.

[FR Doc. 00-16226 Filed 6-26-00; 8:45 am]

BILLING CODE 3510-22-F